DEPARTMENT OF STATE

[Public Notice 8330]

Notice of Public Meeting of the President's Emergency Plan for AIDS Relief (PEPFAR) Scientific Advisory Board

SUMMARY: In accordance with the Federal Advisory Committee Act (FACA), the PEPFAR Scientific Advisory Board (hereinafter referred to as “the Board”) will hold a conference call on Thursday, June 20th at 10:00 am-12:00 pm. The call will be operator assisted and is open to the public.

The meeting will be hosted by the Office of the U.S. Global AIDS Coordinator, and led by Dr. Amy DuBois, who is the Acting Director of the Office of Research and Science, and the Designated Federal Officer for the SAB.

The Board serves the Global AIDS Coordinator in a solely advisory capacity concerning scientific, implementation, and policy issues related to the global response to HIV/AIDS. These issues are of concern as they influence the priorities and direction of PEPFAR evaluation and research, the content of national and international strategies and implementation, and the role of PEPFAR in international discourse regarding an evidence-based HIV response. Topics for the meeting will include an update on PEPFAR-funded combination prevention studies and implementation science awards; recommendations to Ambassador Goosby on lubricant safety, and data management.

The public may call into this conference call at the following number: (800) 260-0702 with Confirmation Number: 293699. To ensure that an adequate number of lines are provided, please pre-register by emailing PEPFAR_SAB@state.gov. To view the documents which will be discussed on this call, please visit http://www.pepfar.gov/sab/index.htm. If you would like to submit a written public comment, please email your comments to PEPFAR_SAB@state.gov. While the call is open to public attendance, the Board will determine procedures for public participation.

For further information about the meeting, please contact Dr. Amy DuBois, Acting Director of the Office of Research and Science, Office of the U.S. Global AIDS Coordinator at (202) 663-2706 or duboisa@state.gov.

Dated: May 20, 2013.
Amy Dubois,
Acting Director, Office of Research and Science, Office of the U.S. Global AIDS Coordinator, Department of State.

[FR Doc. 2013-12455 Filed 5-23-13; 8:45 am]

BILLING CODE 4710-10-P